DEPARTMENT OF TRANSPORTATION

Federal Aviation Administration

14 CFR Part 39

[Docket No. FAA-2011-0033; Directorate Identifier 2010-NM-019-AD]

RIN 2120-AA64

Airworthiness Directives; The Boeing Company Model 777-200 Series Airplanes

AGENCY: Federal Aviation Administration (FAA), DOT.

ACTION: Notice of proposed rulemaking (NPRM).

SUMMARY: We propose to adopt a new airworthiness directive (AD) for certain Model 777-200 series airplanes. This proposed AD would require installing a new circuit breaker, relays, and wiring to allow the flightcrew to turn off electrical power to the in-flight entertainment (IFE) systems and other non-essential electrical systems through a switch in the flight compartment, and doing other specified actions. The actions include replacing the cabin area control panels; changing the wiring; modifying the purser station or the A-4 galley, as applicable; installing new cabin system management unit, cabin area control panel, overhead electronics unit, and zone management units operational software, as applicable; and making a change to the cabin services system (CSS) configuration database and installing the new database in the CSS components. This proposed AD would also require changing the wiring at the cabin management system in the purser station. This proposed AD results from an IFE systems review. We are proposing this AD to ensure that the flightcrew is able to turn off electrical power to the IFE system and other non-essential electrical systems through a switch in the flight compartment in the event of smoke or flames. The flightcrew's inability to turn off electrical power to the IFE system and other non-essential electrical systems in the event of smoke or flames could result in the inability to control smoke or flames in the airplane flight deck or passenger cabin during a non-normal or emergency situation.

DATES: We must receive comments on this proposed AD by March 18, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Joe Salameh, Aerospace Engineer, Systems and Equipment Branch, ANM-130S, FAA, Seattle Aircraft Certification Office, 1601 Lind Avenue, SW., Renton, Washington 98057-3356; telephone 425-917-6454; fax 425-917-6590.

SUPPLEMENTARY INFORMATION:

Comments Invited

We invite you to send any written relevant data, views, or arguments about this proposed AD. Send your comments to an address listed under the ADDRESSES section. Include “Docket No. FAA-2011-0033; Directorate Identifier 2010-NM-019-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

In response to numerous reports of smoke or flames in the passenger cabin of various models of transport category airplanes, we conducted a comprehensive in-flight entertainment (IFE) systems review. Earlier investigation of the reports had revealed that the source of the smoke and flames was from cabin IFE system components, including electronic seat boxes mounted under passenger seats, IFE wiring, IFE monitors, cabin lighting, wall outlets, and other non-essential cabin electrical systems.

The systems review disclosed that in order to minimize the risk of smoke or flames in the passenger cabin, a switch is needed in the flight compartment to enable the flightcrew to turn off electrical power to the IFE system and other non-essential electrical systems in the event of smoke or flames. The flightcrew's inability to turn off power to the IFE system and other non-essential electrical systems, if not corrected, could result in the inability to control smoke or flames in the airplane flight deck or passenger cabin during a non-normal or emergency situation.

Relevant Service Information

We have reviewed Boeing Service Bulletin 777-23-0142, dated November 25, 2003. This service bulletin describes procedures for the following actions:

• Removing the cabin area control panels.

• Changing the wiring.

• Installing new cabin control panels.

• Modifying the purser station and the A-4 galley, as applicable.

• Installing cabin system management unit operational program software.

• Installing cabin area control panel operational program software.

• Installing zone management unit operational program software.

• Installing overhead electronics unit operational program software, if necessary.

• Making changes to the new configuration database.

• Installing the new configuration database to the cabin services system.

Boeing Service Bulletin 777-23-0142, dated November 25, 2003 refers to Jamco Service Letter SL-K0789, dated June 10, 1997, as an additional source of service information for modifying the cabin system control panel compartment for airplanes in Group 4 (as identified in Boeing Service Bulletin 777-23-0142, dated November 25, 2003).

Boeing Service Bulletin 777-23-0142, dated November 25, 2003, specifies prior or concurrent accomplishment of Boeing Service Bulletin 777-23-0057, dated April 9, 1998, which describes procedures for changing the wiring in the purser station for airplanes in Group 4 (as identified in Boeing Service Bulletin 777-23-0142, dated November 25, 2003).

Difference Between Service Information and AD

Boeing Service Bulletin 777-23-0142, dated November 25, 2003, does not contain a compliance time for the required actions. This NPRM would require the actions be done within 60 months after the effective date of this AD. We have coordinated this difference with The Boeing Company.

FAA's Determination and Requirements of this Proposed AD

We are proposing this AD because we evaluated all relevant information and determined the unsafe condition described previously is likely to exist or develop in other products of the same type design. This proposed AD would require accomplishing the actions specified in the service information described previously.

Costs of Compliance

Currently, there are no affected airplanes on the U.S. Register. The following table provides the estimated costs for U.S. operators to comply with this proposed AD if an affected airplane is imported and placed on the U.S. Register in the future.

Table—Estimated Costs
Action | Work hours | Average labor rate per hour | Parts | Cost per product
Modification of the cabin services system wiring | Between 6 and 9 ¹ | $85 | Between $119,709 and $120,338 | Between $120,219 and $121,103.
Concurrent modification | 1 | 85 | None | $85.
¹ Depending on airplane configuration.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2011-0033; Directorate Identifier 2010-NM-019-AD.

Comments Due Date

(a) We must receive comments by March 18, 2011.

Affected ADs

(b) None.

Applicability

(c) This AD applies to The Boeing Company Model 777-200 series airplanes, certificated in any category; as identified in Boeing Service Bulletin 777-23-0142, dated November 25, 2003.

Subject

(d) Air Transport Association (ATA) of America Code 23: Communications.

Unsafe Condition

(e) This AD results from an in-flight entertainment (IFE) systems review. We are proposing this AD to ensure that the flightcrew is able to turn off electrical power to the IFE system and other non-essential electrical systems through a switch in the flight compartment in the event of smoke or flames. The flightcrew's inability to turn off electrical power to the IFE system and other non-essential electrical systems in the event of smoke or flames could result in the inability to control smoke or flames in the airplane flight deck or passenger cabin during a non-normal or emergency situation.

Compliance

(f) You are responsible for having the actions required by this AD performed within the compliance times specified, unless the actions have already been done.

Modification

(g) Within 60 months after the effective date of this AD: Remove the cabin area control panels; change the wiring; install new cabin area control panels; modify the purser station or A-4 galley, as applicable; install new cabin system management unit, cabin area control panel, overhead electronics unit, and zone management units operational software, as applicable; and make a change to the cabin services system (CSS) configuration database and install the new database in the CSS components; in accordance with the Accomplishment Instructions of Boeing Service Bulletin 777-23-0142, dated November 25, 2003.

Note 1: Boeing Service Bulletin 777-23-0142, dated November 25, 2003, refers to Jamco Service Letter SL-K0789, dated June 10, 1997, as an additional source of guidance for modification of the cabin system control panel compartment for airplanes in Group 4 (as identified in Boeing Service Bulletin 777-23-0142, dated November 25, 2003).

Concurrent Requirement

(h) For Group 4 airplanes identified in Boeing Service Bulletin 777-23-0142, dated November 25, 2003: Prior to or concurrently with accomplishing the requirements of paragraph (g) of this AD, change the termination of two wires at the cabin management terminal in the purser station, in accordance with Boeing Service Bulletin 777-23-0057, dated April 9, 1998.

Alternative Methods of Compliance (AMOCs)

(i)(1) The Manager, Seattle Aircraft Certification Office (ACO), FAA, has the authority to approve AMOCs for this AD, if requested using the procedures found in 14 CFR 39.19. Send information to ATTN: Joe Salameh, Aerospace Engineer, Systems and Equipment Branch, ANM-130S, FAA, Seattle Aircraft Certification Office, 1601 Lind Avenue, SW., Renton, Washington 98057-3356; telephone 425-917-6454; fax 425-917-6590. Information may be e-mailed to: 9-ANM-Seattle-ACO-AMOC-Requests@faa.gov.

(2) To request a different method of compliance or a different compliance time for this AD, follow the procedures in 14 CFR 39.19. Before using any approved AMOC, notify your appropriate principal inspector, or lacking a principal inspector, the manager of the local flight standards district office/certificate holding district office. The AMOC approval letter must specifically reference this AD.

Issued in Renton, Washington, on January 25, 2011.
Ali Bahrami,
Manager, Transport Airplane Directorate, Aircraft Certification Service.

[FR Doc. 2011-2171 Filed 1-31-11; 8:45 am]

BILLING CODE 4910-13-P